DEPARTMENT OF STATE

[Public Notice 5329]

Announcement of Meetings of the International Telecommunication Advisory Committee

SUMMARY: This notice announces the program of International Telecommunication Advisory Committee meetings to prepare for meetings of the Asia-Pacific Economic Community Telecommunications and Information Working Group (APEC-TEL), various International Telecommunication Union Telecommunication Standardization Sector (ITU-T) and Radiocommunication Sector (ITU-R) Study Groups, and the Organization of American States Inter-American Telecommunication Commission (CITEL) in addition to meetings already announced.

The International Telecommunication Advisory Committee (ITAC) will meet to prepare for the 33rd meeting of APEC TEL in Calgary, Canada on April 13, 2006 2-4 p.m. at Verizon Communications, 1300 Eye Street, Washington, DC.

The International Telecommunication Advisory Committee (ITAC) will meet to prepare for various ITU-R Study Group meetings continuously by e-mail through the end of July 2006. People desiring to participate in this activity should contact the secretariat at minardje@state.gov or (202) 647-3234 for directions.

The International Telecommunication Advisory Committee (ITAC) will meet to prepare for CITEL PCC.I (Telecommunication) on April 5 and 11 and May 11 and 17, 2006, 2-4 p.m. in Washington, DC, at a location to be determined.

The International Telecommunication Advisory Committee (ITAC) will meet to prepare for CITEL PCC.II (Radiocommunication including Broadcasting) on April 11 and 25 and May 9 and 23, 2006 10-noon in Washington, DC, at a location to be determined.

The International Telecommunication Advisory Committee (ITAC) will meet to prepare for ITU Council April 12, 2006 in Washington, DC all 2-4 p.m. at a location to be determined.

The International Telecommunication Advisory Committee (ITAC) will meet to prepare for ITU Plenipotentiary Conference 2006 on May 3, 17, 31, and June 14 and 28, 2006 in Washington, DC, 10-noon at a location to be determined.

These meetings are open to the public. Particulars on meeting location and times, and information on conference bridges is available from the secretariat minardje@state.gov, telephone (202) 647-3234.

Dated: March 23, 2006.
Anne D. Jillson,
Foreign Affairs Officer, International Communications & Information Policy, Department of State.

[FR Doc. E6-4558 Filed 3-28-06; 8:45 am]

BILLING CODE 4710-07-P